DEPARTMENT OF COMMERCE

National Institute of Standards and Technology

Advanced Technology Program Advisory Committee

AGENCY: National Institute of Standards and Technology, Department of Commerce.

ACTION: Notice of partially closed meeting.

SUMMARY: Pursuant to the Federal Advisory Committee Act, 5 U.S.C. app. 2, notice is hereby given that the Advanced Technology Program Advisory Committee, National Institute of Standards and Technology (NIST), will meet Tuesday, May 15, 2001, from 9:00 a.m. to 3:45 p.m. The Advanced Technology Program Advisory Committee is composed of eight members appointed by the Director of NIST; who are eminent in such fields as business, research, new product development, engineering, education, and management consulting. The purpose of this meeting is to review and make recommendations regarding general policy for the Advance Technology Program (ATP), its organization, its budget, and its programs within the framework of applicable national policies as set forth by the President and the Congress. The agenda will include an Update on ATP, a report of MEP Diffusion, a presentation from the National Governors Association, a presentation on ATP's Charter, an Economic Assessment Office panel discussion on The Life of an ATP Project: What to Measure When, and updates on the competition and outreach efforts. Discussions scheduled to begin at 9:00 a.m. and to end at 10:00 a.m. and to begin at 3:00 p.m. and to end at 3:45 p.m. on May 15, 2001 on the ATP budget issues and staffing of positions will be closed.

DATES: The meeting will convene May 15, 2001, at 9:00 a.m. and will adjorn at 3:45 p.m. on May 15, 2001.

ADDRESSES: The meeting will be held at the National Institute of Standards and Technology, Administration Building, Lecture Room A, Gaithersburg, Maryland 20899.

FOR FURTHER INFORMATION CONTACT: Janet R. Russell, National Institute of Standards and Technology, Gaithersburg, MD 20899-1004, telephone number (301) 975-2107.

SUPPLEMENTARY INFORMATION: The Acting Assistant Secretary for Administration, with the concurrence of the General Counsel, formally determined on January 22, 2001 that portions of the meeting of the Advanced Technology Program Advisory Committee which involve discussion of proposed funding of the Advanced Technology Program may be closed in accordance with 5 U.S.C. 552b(c)(9)(B), because those portions of the meetings will divulge matters the premature disclosure of which would be likely to significantly frustrate implementation of proposed agency actions; and that portions of meetings which involve discussion of staffing of positions in ATP may be closed in accordance with 5 U.S.C. 552b(c)(6), because divulging information discussed in those portions of the meetings is likely to reveal information of a personal nature where disclosure would constitute a clearly unwarranted invasion of personal privacy.

Dated: April 16, 2001.
Karen H. Brown,
Acting Director.

[FR Doc. 01-9942 Filed 4-20-01; 8:45 am]

BILLING CODE 3510-13-M